DEPARTMENT OF THE TREASURY

Submission for OMB Review; Comment Request

February 4, 2004.

The Department of Treasury has submitted the following public information collection requirement(s) to OMB for review and clearance under the Paperwork Reduction Act of 1995, Pub. L. 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before March 11, 2004, to be assured of consideration.

Internal Revenue Service (IRS)

OMB Number: 1545-0148.

Form Number: IRS Form 2758.

Type of Review: Extension.

Title: Application for Extension of Time to File Certain Excise, Income, and Other Returns.

Description: Internal Revenue Code (ICR) 6081 permits the Secretary to grant a reasonable extension of time for filing any returns, declaration, statement, or other document. This form is used by fiduciaries and certain organizations to request an extension of time to file their returns. The information is used to determine whether the extension should be granted.

Respondents: Business or other for-profit, not-for-profit institutions.

Estimated Number of Respondents/Recordkeepers: 70,371.

Estimated Burden Hours Respondent/Recordkeeper:

Recordkeeping—5 hr.

Learning about the law or the form—12 min.

Preparing and sending the form to the IRS—16 min.

Frequency of Response: On occasion.

Estimated Total Reporting/Recordkeeping Burden: 375,923 hours.

Clearance Officer: Glenn P. Kirkland, (202) 622-3428, Internal Revenue Service, Room 6411-03, 1111 Constitution Avenue, NW.,Washington, DC 20224.

OMB Reviewer: Joseph F. Lackey, Jr., (202) 395-7316, Office of Management and Budget, Room 10235, New Executive Office Building,Washington, DC 20503.

Lois K. Holland,
Treasury PRA Clearance Officer.

[FR Doc. 04-2853 Filed 2-9-04; 8:45 am]

BILLING CODE 4830-01-P